DEPARTMENT OF ENERGY

Federal Energy Regulatory Commission

[Docket No. CP00-65-001]

Tennessee Gas Pipeline Company; Notice of Amendment

October 18, 2000.

Take notice that on October 12, 2000, Tennessee Gas Pipeline Company (Tennessee), P.O. Box 2511 Houston, Texas 77252, tendered for filing in Docket No. CP00-65-001 an amendment to its original application (Application) filed in that docket on December 30, 1999. Tennessee states that the purpose of the amendment is to notify the Commission of Tennessee's decision to switch from a natural gas turbin-drive compressor to an electric motor-driven compressor. Tennessee indicates that the uprate of the 300-line as originally proposed with replacement of 6,600 additional feet of existing pipeline between MLV 3341-1 and MLV 336 is no longer proposed. Two proposed new uprate activities are proposed as follows:

• From 975 psig to 1170 psig between MLV 324-1A and MLV 329-1;

• From 867 psig to 1083 psig between MLV 329-1 and MLV 334-1.

Any person desiring to be heard or making any protest with reference to said petition should on or before October 30, 2000, file with the Federal Energy Regulatory Commission, 888 First Street, NE., Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestants parties to the proceeding. The Commission's rules require that protestors provide copies of their protests to the party or person to whom the protests are directed. Any person wishing to become a party to a proceeding or to participate as a party in any hearing therein must file a motion to intervene in accordance with the Commission's Rules.

A person obtaining intervenor status will be placed on the service list maintained by the Secretary of the Commission and will receive copies of all documents filed by the applicant and by every one of the intervenors. All intervenor can file for rehearing of any Commission order and can petition for court review of any such order. However, an intervenor must submit copies of comments or any other filing it makes with the Commission to every other intervenor in the proceeding as well as 14 copies with the Commission.

A person does not have to intervene, however, in order to have comments considered. A person, instead, may submit two copies of comments to the Secretary of the Commission. Commenters will be placed on the Commission's environmental mailing list, will receive copies of environmental documents and will be able to participate in meetings associated with the Commission's environmental review process. Commenters will not be required to serve copies of filed documents on all other parties. However, commenters will not receive copies of all documents filed by other parties or issued by the Commission and will not have the right to seek rehearing or appeal the Commission's final order to a federal court.

The Commission will consider all comments and concerns equally, whether filed by commenters or those requesting intervenor status.

Take further notice that, pursuant to the authority contained in and subject to the jurisdiction conferred upon the Federal Energy Regulatory Commission by sections 7 and 15 of the NGA and the Commission's Rules of Practice and Procedure, a hearing will be held without further notice before the Commission or its designee on this petition if no motion to intervene is filed within the time required herein, if the Commission on its own review of the matter finds that a grant of the requested exemption is required by the public convenience and necessity. If a motion for leave to intervene is timely filed, or if the Commission on its own motion believes that a formal hearing is required, further notice of such hearing will be duly given.

Under the procedure herein provided for, unless otherwise advised, it will be unnecessary for Tennessee to appear or be represented at the hearing.

David P. Boergers,
Secretary.

[FR Doc. 00-27275 Filed 10-23-00; 8:45 am]

BILLING CODE 6717-01-M